DEPARTMENT OF DEFENSE

Office of the Secretary

Meeting of the National Commission on the Structure of the Air Force

AGENCY: Director of Administration and Management, DoD.

ACTION: Notice of advisory committee meeting.

SUMMARY: The Department of Defense is publishing this notice to announce a Federal advisory committee closed meeting of the National Commission on the Structure of the Air Force (“the Commission”).

DATES: Dates of Closed Meeting: Wednesday, December 4, 2013 from 12:00 p.m. to 5:30 p.m.; Thursday, December 5, 2013 from 8:00 a.m. to 5:00 p.m.; and Friday, December 6, 2013, from 9:00 a.m. to 12:00 p.m.

ADDRESSES: 2521 South Clark Street, Suite 200, Crystal City, VA 22202 and, as necessary, a secure video teleconferencing line.

FOR FURTHER INFORMATION CONTACT: Mrs. Marcia Moore, Designated Federal Officer, National Commission on the Structure of the Air Force, 1950 Defense Pentagon, Room 3A874, Washington, DC 20301-1950. Email: marcia.l.moore12.civ@mail.mil. Desk (703) 545-9113. Facsimile (703) 692-5625.

SUPPLEMENTARY INFORMATION: Due to difficulties finalizing the meeting agenda for the scheduled meeting of the National Commission on the Structure of the Air Force for December 4-6, 2013, the requirements of 41 CFR 102-3.150(a) were not met. Accordingly, the Advisory Committee Management Officer for the Department of Defense, pursuant to 41 CFR 102-3.150(b), waives the 15-calendar day notification requirement.

Purpose of Meeting: This meeting was held under the provisions of the Federal Advisory Committee Act (FACA) of 1972 (5 U.S.C., Appendix, as amended), the Government in the Sunshine Act of 1976 (5 U.S.C. 552b, as amended), and 41 CFR 102-3.150. The 3-day meeting was held to conduct a wargame among staff and Commissioner participants while exploring issues concerning the mix of the Active and Reserve Components and how to better invest in and manage human capital assets.

Relative to the force structure mix among the Active Component, Reserve Component, and the Air National Guard, the objectives of the wargame are to (1) assess the advantages and disadvantages of contending approaches to the future structure of the U.S. Air Force; (2) identify current policies, procedures, practices and legislation that need to change in order to make the future structure of the U.S. Air Force more effective; and (3) understand stakeholder interests in the future structure of the U.S. Air Force and assess their anticipated responses to the Commissions' findings and recommendations. Commissioners will pose as key stakeholders, which include the Secretary of Defense, the Joint Chiefs of Staff, the Secretary of the U.S. Air Force, the Chief of Staff of the U.S. Air Force, and the Combatant Commanders. As a result of the wargame, Commissioners will have a sharper understanding of the policies under consideration, a more rigorous analysis of the implications of their emerging findings, and a more credible basis for their recommendations.

Three teams will be formed and each will be assigned to develop a unique mix among the Active Component, Reserve Component, and the Air National Guard. One team will be instructed to develop a future U.S. Air Force with 65% Active Component and 35% Reserve Component. This force mix matches the force mix planned for fiscal year 2015. A second team will build a future U.S. Air Force with 55% Active Component and 45% Reserve Component. The third team will plan a future U.S. Air Force with 35% Active Component and 65% Reserve Component and Air National Guard. The team assignments, assumptions, and resources are designed solely for analytical purposes and must not be construed to imply the Commissioner's preference for any particular force structure as stated in this notice. The outcomes of the Active Component and Reserve Component force mix in the wargame will provide insight—not final answers. The insights gained from the wargame will highlight issues requiring further analysis. The first day of the wargame will be dedicated to reviewing how the wargame will be conducted. All teams are to be given the same set of assumptions, such as their resources will be constrained by the Budget Control Act and sequestration in accordance with the most stressing forecast developed by the DoD Office of Cost Assessment and Program Evaluation. Classified data will also be taken from the U.S. Air Force's Alternative Program Objective Memorandum for fiscal year 2015. The teams' strategies will be governed by the fiscal year 2014 Defense Planning Guidance and Integrated Scenario Construct, which are both classified documents. The teams will be given the same quantitative boundaries, a decision support tool to define trade-offs among variables, and a re-balancing tool to balance the total force mix across the range of choices for all mission sets and Core Functions of the U.S. Air Force.

The second day of the meeting involves a crisis planning exercise for a hypothetical war scenario that occurs in 2018. The scenario employed will be adapted from the Chairman of the Joint Chief of Staff's Strategic Seminar involving a crisis that rapidly devolves into a multi-theater conflict. Each team will play the role of the U.S. Air Force as force provider to the Combatant Commands. The scenario requires maintaining a sizable force in the contiguous United States for homeland defense. The last day of the meeting will be reserved for the Commissioners to deliberate and answer the following questions:

Should the Air National Guard and Air Force Reserve be integrated into a single component?

Can the forms of mobilization be further reduced and rationalized?

Would it be effective to consider dissimilar designs for Reserve Component units conducting the same missions as Active Components?

Can additional functions be transferred to the civilian or contractor work forces?

Would a base realignment and closure process be prudent?

What legislative changes are needed?

What additional issues were identified by the wargame?

Meeting Accessibility: In accordance with section 10(d) of the FACA, 5 U.S.C. 552b, and 41 CFR 102-3.155, the DoD determined that the December 4-6, 2013 meeting will be closed to the public in its entirety. Specifically, the Director of Administration and Management, with the coordination of the DoD FACA Attorney, has determined in writing that this meeting will be closed to the public because it discussed classified information and matters covered by 5 U.S.C. 552b(c)(1).

Written Comments: Pursuant to 41 CFR 102-3.105(j) and 102-3.140 and section 10(a)(3) of the FACA, the public or interested organizations may submit written comments to the Commission in response to the stated agenda of the open and/or closed meeting or the Commission's mission. The Designated Federal Officer (DFO) will review all submitted written statements before forwarding to the Commission. Written comments should be submitted to Mrs. Marcia Moore, DFO, via facsimile or electronic mail, the preferred modes of submission. Each page of the comment must include the author's name, title or affiliation, address, and daytime phone number. All contact information may be found in the FOR FURTHER INFORMATION CONTACT section. While written comments are forwarded to the Commissioners upon receipt, note that all written comments on the Commission's charge, as described in the `Background' section, must be received by 5:00 p.m. on December 13, 2013 to be considered by the Commissioners for the final report. This deadline for emailed and faxed comments has been extended from November 29, 2013. The postmark deadline to mail comments was November 8, 2013.

Background

The National Commission on the Structure of the Air Force was established by the National Defense Authorization Act for Fiscal Year 2013 (Pub. L. 112-239). The Department of Defense sponsor for the Commission is the Director of Administration and Management, Mr. Michael L. Rhodes. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

The evaluation factors under consideration by the Commission are for a U.S. Air Force structure that—(a) meets current and anticipated requirements of the combatant commands; (b) achieves an appropriate balance between the regular and reserve components of the Air Force, taking advantage of the unique strengths and capabilities of each; (c) ensures that the regular and reserve components of the Air Force have the capacity needed to support current and anticipated homeland defense and disaster assistance missions in the United States; (d) provides for sufficient numbers of regular members of the Air Force to provide a base of trained personnel from which the personnel of the reserve components of the Air Force could be recruited; (e) maintains a peacetime rotation force to support operational tempo goals of 1:2 for regular members of the Air Forces and 1:5 for members of the reserve components of the Air Force; and (f) maximizes and appropriately balances affordability, efficiency, effectiveness, capability, and readiness.

Dated: December 5, 2013.
Aaron Siegel,
Alternate OSD Federal Register Liaison Officer, Department of Defense.

[FR Doc. 2013-29483 Filed 12-10-13; 8:45 am]

BILLING CODE 5001-06-P